DEPARTMENT OF COMMERCE

International Trade Administration

[C-533-878]

Stainless Steel Flanges from India: Rescission of Countervailing Duty Administrative Review; 2023

AGENCY: Enforcement and Compliance, International Trade Administration, Department of Commerce.

SUMMARY: The U.S. Department of Commerce (Commerce) is rescinding the administrative review of the countervailing duty (CVD) order on stainless steel flanges from India covering the period of review (POR) January 1, 2023, through December 31, 2023, because, as explained below, there are no reviewable suspended entries for the three companies subject to this review.

DATES: Applicable April 22, 2025.

FOR FURTHER INFORMATION CONTACT: Sun Cho, AD/CVD Operations, Office V, Enforcement and Compliance, International Trade Administration, Department of Commerce, 1401 Constitution Avenue NW, Washington, DC 20230; telephone: (202) 482-6458.

SUPPLEMENTARY INFORMATION:

Background

On October 1, 2024, Commerce published in the Federal Register a notice of opportunity to request an administrative review of the CVD order on stainless steel flanges from India, covering the period January 1, 2023, through December 31, 2023.¹ Commerce received a timely request for review of the Order from CD Industries (Prop. Kisaan Engineering Works Pvt. Ltd.)(CD Industries), Jai Auto Pvt. Ltd. (Jai Auto), and R. N. Gupta & Company Limited (RNG).²

¹ See Antidumping or Countervailing Duty Order, Finding, or Suspended Investigation; Opportunity to Request Administrative Review and Joint Annual Inquiry Service List, 89 FR 79894 (October 1, 2024); see also Stainless Steel Flanges from India: Countervailing Duty Order, 83 FR 50336 (October 5, 2018) (Order).

² See CD Industries' Letter, “Request for Administrative Review,” dated October 31, 2024; Jai Auto's Letter, “Request for Countervailing Duty Administrative Review of Jai Auto Pvt. Ltd for the period of January 01, 2023 to December 31, 2023,” dated October 29, 2024; and RNG's Letter, “Request for Countervailing Duty Administrative Review of R. N. Gupta & Company Limited for the period of January 01, 2023 to December 31, 2023,” dated October 29, 2024.

On November 14, 2024, Commerce published in the Federal Register a notice of initiation of an administrative review with respect to these three companies, in accordance with section 751(a) of the Tariff Act of 1930, as amended (the Act).³ On November 21, 2024, Commerce released a memorandum indicating that there were no reviewable entries of subject merchandise during the POR based on a U.S. Customs and Border Protection (CBP) entry data query and notified all interested parties of its intent to rescind the review in full.⁴ Commerce provided parties an opportunity to submit comments on the data query results.⁵ No party submitted comments to Commerce. On February 11, 2025, Jai Auto withdrew its request for an administrative review.⁶

³ See Initiation of Antidumping and Countervailing Duty Administrative Reviews, 89 FR 89955 (November 14, 2024).

⁴ See Memorandum, “U.S. Customs and Border Protect Data Query Release and Notice of Intent to Rescind Review,” dated November 21, 2024.

⁵ Id.

⁶ See Jai Auto's Letter, “Withdrawal of Request for Countervailing Duty Administrative Review for the period of 1st January, 2023 to 31st December, 2023,” dated February 11, 2025.

Rescission of Review

Pursuant to 19 CFR 351.213(d)(1), Commerce will rescind an administrative review, in whole or in part, if all parties who requested a review withdraw their requests within 90 days of the date that the notice of initiation of the requested review was published in the Federal Register. Because Jai Auto timely withdrew its request for review of itself and no other parties requested a review of Jai Auto, Commerce is rescinding this administrative review with respect to Jai Auto.

Moreover, pursuant to 19 CFR 351.213(d)(3), it is Commerce's practice to rescind an administrative review of a CVD order where Commerce concludes that there were no reviewable entries of subject merchandise during the POR.⁷ Normally, upon completion of an administrative review, the suspended entries are liquidated at the CVD assessment rate for the review period.⁸ Therefore, for an administrative review to be conducted, there must be a reviewable, suspended entry that Commerce can instruct CBP to liquidate at the calculated CVD assessment rate for the review period.⁹ As noted above, CBP data showed that there were no entries of subject merchandise from India during the POR for the remaining companies under review, i.e., CD Industries and RNG. Accordingly, in the absence of reviewable, suspended entries of subject merchandise during the POR, we are rescinding this administrative review, in its entirety, in accordance with 19 CFR 351.213(d)(3).

⁷ See, e.g., Certain Softwood Lumber Products from Canada: Final Results and Final Rescission, in Part, of the Countervailing Duty Administrative Review, 2020, 87 FR 48455 (August 9, 2022); see also Certain Non-Refillable Steel Cylinders from the People's Republic of China: Rescission of Countervailing Duty Administrative Review; 2020-2021, 87 FR 64008 (October 21, 2022).

⁸ See 19 CFR 351.212(b)(2).

⁹ See 19 CFR 351.213(d)(3).

Cash Deposit Requirements

As Commerce has proceeded to a final rescission of this administrative review, no cash deposit rates will change. Accordingly, the current cash deposit requirements shall remain in effect until further notice.

Assessment Rates

Commerce will instruct CBP to assess countervailing duties on all appropriate entries. Countervailing duties shall be assessed at rates equal to the cash deposit of estimated countervailing duties required to the time of entry, or withdrawal from warehouse, for consumption, in accordance with 18 CFR 351.21.(c)(1)(i). Commerce intends to issue assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

We are issuing and publishing this notice in accordance with sections 751(a)(1) and 777(i)(1) of the Act, and 19 CFR 351.221(b)(4).

Dated: April 9, 2025.
Scot Fullerton,
Acting Deputy Assistant Secretary for Antidumping and Countervailing Duty Operations.

[FR Doc. 2025-06844 Filed 4-21-25; 8:45 am]

BILLING CODE 3510-DS-P